OFFICE OF SCIENCE AND TECHNOLOGY POLICY

Interagency Funding for Research and Engineering Projects Conducted by Federal Researchers

AGENCY: Office of Science and Technology Policy.

ACTION: Notice of Request for Information.

SUMMARY: This Request for Information (RFI) solicits input from the public regarding interagency research awards via competitive grants, contracts, or other vehicles provided by a Federal agency to a researcher at a Federal laboratory that is managed, owned, or operated by another Federal agency. Applicable research awards include extramural research awards awarded to intramural researchers in Federal laboratories. Federal laboratories include Government-Owned, Government-Operated laboratories (GOGOs) and Federally Funded Research and Development Centers (FFRDCs). Research awards pay for research projects and supporting resources, including the salaries of the principal investigators. The public input provided in response to this Notice will inform the Office of Science and Technology Policy (OSTP) as it works with Federal agencies and other stakeholders to develop best practices for agencies.

DATES: Responses must be received by 11:59 p.m. on April 14, 2014, to be considered.

ADDRESSES: You may submit comments by any of the following methods.

• Downloadable form/email: To aid in information collection and analysis, OSTP encourages responses to be provided by filling out the downloadable form located at http://www.whitehouse.gov/administration/eop/ostp/library/shareyourinput and email that form, as an attachment, to: iaresearch@ostp.gov. Please include “Interagency Research Award” in the subject line of the message.

• Fax: (202) 456-6071.

• Mail: Attn: Reynolds Skaggs, Office of Science and Technology Policy, 1650 Pennsylvania Avenue NW., Washington, DC, 20504. Information submitted by postal mail should allow ample time for processing by security.

Response to this RFI is voluntary. Respondents need not reply to all questions listed, but should indicate in their responses the number of the question to which they are responding. Responses to this RFI, including the names of the authors and their institutional affiliations, if provided, may be posted online. OSTP therefore requests that no business-proprietary information, copyrighted information, or personally-identifiable information be submitted in response to this RFI. Please note that the U.S. Government will not pay for response preparation, or for the use of any information contained in the response.

SUPPLEMENTARY INFORMATION:

Background

Scientists and Engineers (S&Es) who do research and development on behalf of the U.S. Government can compete for research funding through a number of mechanisms, including an interagency agreement, memorandum of understanding, grant, contract, or other transaction agreement. OSTP and STPI have observed that there exist a number of barriers with the potential to limit or prohibit the use of these and other mechanisms on an interagency basis, such as legislation, regulation, interagency agreement, agency policy, program policy, or practices. Policies and practices that can hinder interagency research awards include outright prohibitions, limitations on funding, and added administrative burdens. In addition, agencies vary with respect to the permeability of interagency research awards and this inconsistency leads to inefficiencies and occasionally redundancies. For example, some agencies allow researchers from other Federal agencies to compete for extramural funding, and provide funding to such extramural Federal laboratory employees whose proposals successfully compete for those awards. However, other agencies limit the funding provided to S&Es working in Federal laboratories under the jurisdiction of other agencies by, for example, not paying salaries or fringe benefit payments.

This RFI offers the opportunity for the public to identify challenges and opportunities for improving Federal interagency research funding awards to support the best and brightest researchers. For the purposes of this RFI, interagency research awards describe one Federal agency funding the research efforts of a scientist or engineer employed by a Federal laboratory managed, owned, or operated by another Federal agency using competitive processes. To ensure each agency is funding the highest quality research and engineering projects, the Office of Science and Technology Policy (OSTP) is considering the potential challenges and opportunities associated with allowing all intramural S&Es, both Federal and contractually employed by Federally Funded Research and Development Centers (FFRDCs) to compete for funding from other agencies, in addition to their own.

OSTP seeks input from all stakeholders who have suggestions for best practices to minimize limitations and administrative burdens associated with interagency research awards. Through this RFI, OSTP is interested in the views of S&Es at Federal laboratories—Government Owned, Government Operated and FFRDCs—who have experienced difficulty when attempting to secure competitive research funding from an agency other than their own, as well as from others who have experience or ideas relating to the following questions:

1. As a Federal laboratory researcher, what difficulties have you experienced when attempting to secure competitive research awards from another agency?

a. If known, please describe the nature of the difficulty. For example, the difficulty may have been an outright prohibition, a limitation on funding, an added administrative burden, or some other burden.

b. Please describe how your agency or the other agency contributed to the difficulty, if applicable.

c. If you know the source of the difficulty (legislation, regulation, interagency agreement, agency policy, program policy, practices, other), please provide details.

d. Please describe how you were able to secure research funding from the other agency despite the difficulties. If you were unable to secure research funding, please describe why not.

2. How has difficulty to secure research funding from other agencies impacted your research?

3. Does your department or agency have a set of best practices related to competitive interagency research awards? If so, please identify the department or agency and share those best practices if possible.

4. Do you have suggested guidance for agencies to improve consistent access to research funding for all Federal laboratory researchers, irrespective of departmental or agency boundaries?

Ted Wackler,
Deputy Chief of Staff and Assistant Director.

[FR Doc. 2014-06036 Filed 3-17-14; 8:45 am]

BILLING CODE 3270-F4-P